NUCLEAR REGULATORY COMMISSION

Advisory Committee on Nuclear Waste; Notice of Meeting

The Advisory Committee on Nuclear Waste (ACNW) will hold its 128th meeting on July 17-19, 2001, at 11545 Rockville Pike, Rockville, Maryland, Room T-2B3.

The entire meeting will be open to public attendance.

The schedule for this meeting is as follows:

Tuesday, July 17, 2001

A. 8:30-8:40 A.M.: Opening Statement (Open)—The Chairman will open the meeting with brief opening remarks, outline the topics to be discussed, and indicate several items of interest.

B. 8:40-10:15 A.M.: ACNW Planning and Procedures (Open)—The Committee will review items under consideration at this meeting and consider topics proposed for future ACNW meetings.

C. 10:30-12:00 Noon: Update on Igneous Activity Issue Resolution (Open)—The Committee members will receive a presentation from the NRC staff on progress in resolving the igneous activity issue.

D. 1:00-3:00 P.M.: DOE's Supplemental Science and Performance Analysis (SSPA) (Open)—The Committee members will receive a status report from DOE on its SSPA to be issued this summer.

E. 3:15-4:15 P.M.: Research Plan for Radionuclide Transport Program (Open)—The Committee members will receive an information briefing by the NRC RES staff on the current status of the radionuclide transport program, and will discuss its plans to review the research program.

F. 4:15-4:45 P.M.: Meeting Reports (Open)—The Committee will hear reports from the members and staff on meetings attended since the 127th ACNW meeting.

G. 4:45-6:00 P.M.: Preparation of ACNW Reports (Open)—The Committee will discuss the following proposed reports: Igneous Activity Issue Resolution and Research Plan for Radionuclide Transport.

Wednesday, July 18, 2001

H. 8:30-8:40 A.M.: Opening Remarks by the ACNW Chairman (Open)—The ACNW Chairman will make opening remarks regarding the conduct of the meeting.

I. 8:40-12:00 Noon.: Key Technical Issues (KTIs)—Vertical Slice Report (Open)—The Committee members will discuss their progress and then commence drafting a report on assigned KTIs.

J. 1:00-2:30 P.M.: Greater-than-Class C (GTCC) Wastes (Open)—The Committee will hear a presentation by DOE representatives on their handling of GTCC.

K. 2:45-7:00 P.M.: Preparation of ACNW Reports (Open)—The Committee will discuss proposed reports on the following topics: Igneous Activity Issues Resolution; Research Plan for Radionuclide Transport; GTCC Disposal Options; and KTI-Vertical Slice Report.

Thursday, July 19, 2001

L. 8:30-8:35 A.M.: Opening Remarks by the ACNW Chairman (Open)—The ACNW Chairman will make opening remarks regarding the conduct of the meeting.

M. 8:35-9:30 A.M.: Preparations for October Visit to Nevada (Open)—The Committee will discuss potential topics, including public outreach sessions and a visit the Envirocare facility.

N. 9:30-12:45 P.M..: Discussion of Proposed ACNW Reports (Open)—The Committee will continue its discussion of proposed ACNW reports.

O. 12:45-1:00 P.M.: Miscellaneous (Open)—The Committee will discuss matters related to the conduct of Committee activities and matters and specific issues that were not completed during previous meetings, as time and availability of information permit.

Procedures for the conduct of and participation in ACNW meetings were published in the Federal Register on October 11, 2000 (65 FR 60475). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8 A.M. and 5 P.M. EDT.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

Dated: June 29, 2001.
Annette Vietti-Cook,
Acting Advisory Committee Management Officer.

[FR Doc. 01-16916 Filed 7-5-01; 8:45 am]

BILLING CODE 7590-01-P